DEPARTMENT OF DEFENSE

Department of the Air Force

U.S. Air Force Seeks Industry Input for National Security Space Launch Assessment

AGENCY: Office of the Deputy Under Secretary of the Air Force for Space, Department of the Air Force, DOD.

ACTION: Request for information.

SUMMARY: Under the provisions of the Federal Advisory Committee Act of 1972 (5 U.S.C., Appendix, as amended), the Government in the Sunshine Act of 1976 (5 U.S.C. 552b, as amended), and 41 CFR 102-3.150, the Department of Defense announces that the United States Air Force, Office of the Deputy Under Secretary of the Air Force for Space, seeks industry views and perspectives to inform an on-going strategic National Security Space Launch Assessment. To support this effort, the Air Force requests interested parties provide responses to the following questions:

1. Describe your company's near-term and long-term plans to offer launch services to the U.S. Government.

2. What are the critical issues that concern current and prospective launch service providers who intend to provide the capability to launch national security space payloads?

3. What DoD policy recommendations would your company have to improve national launch capabilities or aid industry in lowering the cost of space access?

4. What aspects of future DoD launch service or systems acquisitions would contribute to industrial base stabilization in your respective sectors?

Any member of the public wishing to provide input to the United States Air Force should submit a written statement in accordance with 41 CFR 102-3.140(c) and section 10(a)(3) of the Federal Advisory Committee Act and the procedures described in this paragraph. Prefer that written statements be submitted electronically to the Designated Federal Officer at the addresses detailed below by 21 June 2013. The Designated Federal Officer will review all timely submissions and continue dialogue with parties submitting responses as needed. Any information submitted will be for U.S. Government use only and not shared with external parties.

FOR FURTHER INFORMATION CONTACT: The United States Air Force Designated Federal Officer, Lt. Col. Robert Long, 703-693-4978, Office of the Deputy Under Secretary of the Air Force for Space, 1670 Air Force Pentagon, Washington, DC 20330-1670, ea4ss.launch@pentagon.af.mil.

Henry Williams Jr.,
Acting Air Force Federal Register Liaison Officer.

[FR Doc. 2013-12771 Filed 5-28-13; 8:45 am]

BILLING CODE 5001-10-P